DEPARTMENT OF ENERGY

Federal Energy Regulatory Commission

Combined Notice of Filings #1

Take notice that the Commission received the following electric corporate filings:

Docket Numbers: EC14-134-000.

Applicants: American Transmission Company LLC (ATC).

Description: Application for Authority to Acquire Transmission Facilities Under Section 203 of the FPA of American Transmission Company LLC.

Filed Date: 9/5/14.

Accession Number: 20140905-5117.

Comments Due: 5 p.m. ET 9/26/14.

Take notice that the Commission received the following electric rate filings:

Docket Numbers: ER14-2596-001.

Applicants: NSTAR Electric Company, ISO New England Inc.

Description: Tariff Amendment per 35.17(b): Amendment to ISO-NE, MTBA and NSTAR Local Service Agreement TSA-NSTAR-001 to be effective 5/1/2014.

Filed Date: 9/5/14.

Accession Number: 20140905-5033.

Comments Due: 5 p.m. ET 9/26/14.

Docket Numbers: ER14-2782-000.

Applicants: The Dayton Power and Light Company.

Description: Tariff Withdrawal per 35.15: FERC Rate Schedule No. 51, City of Tipp City to be effective 12/31/2014.

Filed Date: 9/4/14.

Accession Number: 20140904-5193.

Comments Due: 5 p.m. ET 9/25/14.

Docket Numbers: ER14-2783-000.

Applicants: The Dayton Power and Light Company.

Description: Tariff Withdrawal per 35.15: FERC Rate Schedule No. 52, Village of Versailles to be effective 12/31/2014.

Filed Date: 9/4/14.

Accession Number: 20140904-5197.

Comments Due: 5 p.m. ET 9/25/14.

Docket Numbers: ER14-2784-000.

Applicants: The Dayton Power and Light Company.

Description: Tariff Withdrawal per 35.15: FERC Rate Schedule No. 47, Village of Waynesfield to be effective 12/31/2014.

Filed Date: 9/4/14.

Accession Number: 20140904-5200.

Comments Due: 5 p.m. ET 9/25/14.

Docket Numbers: ER14-2785-000.

Applicants: The Dayton Power and Light Company.

Description: Tariff Withdrawal per 35.15: FERC Rate Schedule No. 53, Village of Yellow Springs to be effective 12/31/2014.

Filed Date: 9/4/14.

Accession Number: 20140904-5203.

Comments Due: 5 p.m. ET 9/25/14.

Docket Numbers: ER14-2786-000.

Applicants: Portland General Electric Company.

Description: Compliance filing per 35: Sched 5-6 Att N Sec 3—Order 789 to be effective 10/1/2014.

Filed Date: 9/5/14.

Accession Number: 20140905-5001.

Comments Due: 5 p.m. ET 9/26/14.

Docket Numbers: ER14-2787-000.

Applicants: Florida Power & Light Company.

Description: Tariff Withdrawal per 35.15: FPL's Notice of Cancellation of Charlotte Interconnection Agreement to be effective 5/31/2014.

Filed Date: 9/5/14.

Accession Number: 20140905-5072.

Comments Due: 5 p.m. ET 9/26/14.

Docket Numbers: ER14-2788-000.

Applicants: Southern California Edison Company.

Description: § 205(d) rate filing per 35.13(a)(1): Revised Formula Rate PBOPs Amount and Mechanism to be effective 1/1/2014.

Filed Date: 9/5/14.

Accession Number: 20140905-5075.

Comments Due: 5 p.m. ET 9/26/14.

Docket Numbers: ER14-2789-000.

Applicants: Florida Power & Light Company.

Description: Notice of Cancellation of Seminole Plant Interconnection Agreement Rate Schedule No. 42 of Florida Power & Light Company.

Filed Date: 9/5/14.

Accession Number: 20140905-5078.

Comments Due: 5 p.m. ET 9/26/14.

Docket Numbers: ER14-2790-000.

Applicants: Arlington Valley, LLC.

Description: Compliance filing per 35: Tariff Revisions for Sales of Ancillary Services to be effective 9/8/2014.

Filed Date: 9/5/14.

Accession Number: 20140905-5098.

Comments Due: 5 p.m. ET 9/26/14.

Docket Numbers: ER14-2791-000.

Applicants: Griffith Energy LLC.

Description: Compliance filing per 35: Tariff Revisions for Sales of Ancillary Services, to be effective 9/8/2014.

Filed Date: 9/5/14.

Accession Number: 20140905-5105.

Comments Due: 5 p.m. ET 9/26/14.

Docket Numbers: ER14-2792-000.

Applicants: GWF Energy LLC.

Description: Compliance filing per 35: Tariff Revisions for Sales of Ancillary Services to be effective 9/8/2014.

Filed Date: 9/5/14.

Accession Number: 20140905-5106.

Comments Due: 5 p.m. ET 9/26/14.

Take notice that the Commission received the following foreign utility company status filings:

Docket Numbers: FC14-16-000.

Applicants: Bornish Wind, LP.

Description: Notification of Self-Certification of Foreign Utility Company Status of Bornish Wind, LP.

Filed Date: 9/4/14.

Accession Number: 20140904-5219.

Comments Due: 5 p.m. ET 9/25/14.

Docket Numbers: FC14-17-000.

Applicants: Kerwood Wind, LP.

Description: Notification of Self-Certification of Foreign Utility Company Status of Kerwood Wind, LP.

Filed Date: 9/4/14.

Accession Number: 20140904-5220.

Comments Due: 5 p.m. ET 9/25/14.

Take notice that the Commission received the following qualifying facility filings:

Docket Numbers: QF14-700-000.

Applicants: CFSG-UCH Energy LLC.

Description: Form 556 of CFSG-UCH Energy LLC.

Filed Date: 8/6/14.

Accession Number: 20140806-5030.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2014.
Nathaniel J. Davis, Sr.,
Deputy Secretary.

[FR Doc. 2014-21804 Filed 9-11-14; 8:45 am]

BILLING CODE 6717-01-P